DEPARTMENT OF TRANSPORTATION

Federal Aviation Administration

14 CFR Part 71

[Docket No. FAA-2011-0250; Airspace Docket No. 11-AGL-6]

Amendment of Class E Airspace; South Bend, IN

AGENCY: Federal Aviation Administration (FAA), DOT.

ACTION: Final rule.

SUMMARY: This action amends Class E airspace in the South Bend, IN, area. Additional controlled airspace is necessary to accommodate new Area Navigation (RNAV) Standard Instrument Approach Procedures at Jerry Tyler Memorial Airport, Niles, IN. The FAA is taking this action to enhance the safety and management of Instrument Flight Rule (IFR) operations at the airport. The geographic coordinates and name of a navigation aid also will be corrected.

DATES: Effective date: 0901 UTC, April 5, 2012. The Director of the Federal Register approves this incorporation by reference action under 1 CFR part 51, subject to the annual revision of FAA Order 7400.9 and publication of conforming amendments.

FOR FURTHER INFORMATION CONTACT: Scott Enander, Central Service Center, Operations Support Group, Federal Aviation Administration, Southwest Region, 2601 Meacham Blvd., Fort Worth, TX 76137; telephone (817) 321-7716.

SUPPLEMENTARY INFORMATION:

History

On August 10, 2011, the FAA published in the Federal Register a notice of proposed rulemaking (NPRM) to amend Class E airspace for the South Bend, IN, area, creating additional controlled airspace at Jerry Tyler Memorial Airport (76 FR 49385) Docket No. FAA-2011-0250. Interested parties were invited to participate in this rulemaking effort by submitting written comments on the proposal to the FAA. No comments were received. Subsequent to publication, errors was found in the name of the South Bend ILS Outer Marker and the geographic coordinates of the Gipper VORTAC. This rule will make the corrections to be in concert with the FAAs aeronautical database. Class E airspace designations are published in paragraph 6005 of FAA Order 7400.9V dated August 9, 2011, and effective September 15, 2011, which is incorporated by reference in 14 CFR 71.1. The Class E airspace designations listed in this document will be published subsequently in the Order.

The Rule

This action amends Title 14 Code of Federal Regulations (14 CFR) part 71 by amending Class E airspace extending upward from 700 feet above the surface to accommodate new standard instrument approach procedures at Jerry Tyler Memorial Airport, Niles, IN. This action is necessary for the safety and management of IFR operations at the airport. This action also corrects the name of the South Bend ILS Outer Marker to the Misha Outer Marker, and adjusts the geographic coordinates of the Gipper VORTAC in the airspace designation and regulatory text. With the exception of editorial changes and the changes described above, this action is the same as that proposed in the NPRM.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the U.S. Code. Subtitle 1, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace in the South Bend, IN, area.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9V, Airspace Designations and Reporting Points, dated August 9, 2011, and effective September 15, 2011, is amended as follows:

Paragraph 6005 Class E airspace areas extending upward from 700 feet or more above the surface.

* * * * *

AGL IN E5 South Bend, IN [Amended]

South Bend, South Bend Regional Airport, IN

(Lat. 41°42′30″ N., long. 86°19′02″ W.)

Niles, Jerry Tyler Memorial Airport, IN

(Lat. 41°50′09″ N., long. 86°13′31″ W.)

Gipper VORTAC

(Lat. 41°46′07″ N., long. 86°19′07″ W.)

South Bend ILS Localizer

(Lat. 41°42′15″ N., long. 86°19′59″ W.)

Misha Outer Marker

(Lat. 41°42′20″ N., long. 86°13′09″ W.)

That airspace extending upward from 700 feet above the surface within a 8-mile radius of South Bend Regional Airport, and within 4.4 miles south and 7 miles north of the South Bend ILS Localizer East Course, extending from South Bend Regional Airport to 10.5 miles east of the Misha outer marker, and within 4.4 miles west and 7 miles east of the Gipper VORTAC 001° radial extending from the South Bend Regional Airport to 10.5 miles north of the VORTAC, and within a 6.4-mile radius of Jerry Tyler Memorial Airport, and within 4 miles northwest and 8 miles southeast of the Gipper VORTAC 226° radial extending from the 6.4-mile radius of Jerry Tyler Memorial Airport to 15.4 miles southwest of the airport.

Issued in Fort Worth, Texas, on January 13, 2012.
Walter L. Tweedy,
Acting Manager, Operations Support Group, ATO Central Service Center.

[FR Doc. 2012-1825 Filed 2-1-12; 8:45 am]

BILLING CODE 4910-13-P